DEPARTMENT OF THE INTERIOR

National Park Service

National Register of Historic Places; Notification of Pending Nominations and Related Actions

Nominations for the following properties being considered for listing or related actions in the National Register were received by the National Park Service before July 4, 2008. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by August 7, 2008.

J. Paul Loether,
Chief, National Register of Historic Places/National Historic Landmarks Program.

North Carolina

Guilford County

Carter, Wilbur and Martha, House, 1012 Country Club Dr., Greensboro, 08000777

Jackson County

Monteith, Elias Brendle, House and Outbuildings, 111 Hometown Place Rd., Dillsboro, 08000778

Madison County

Marshall High School, Blannahassett Island. W. side Bridge St., Marshall, 08000779

Pennsylvania

Adams County

Thomas Brothers Store, 4 S. Main St., Biglerville, 08000780

Allegheny County

Century Building, 130 7th St., Pittsburgh, 08000781

Bucks County

Nakashima, George, House, Studio and Workshop, 1847 and 1858 Aquetong Rd., Solebury, 08000782

Erie County

Hornby School, 10,000 Station Rd., Greenfield, 08000783

Montgomery County

Keefe-Mumbower Mill, NE. corner of Swedesford and Township Line Rds. jct., North Wales, 08000784

Philadelphia County

Woman's Medical College of Pennsylvania, 3300 Henry Ave., Philadelphia, 08000785

Puerto Rico

San Juan Municipality

La Giralda, 651 Jose Marti St., San Juan, 08000786

Wisconsin

Jefferson County

Carcajou Point Site, Address Restricted, Sumner, 08000787

[FR Doc. E8-16806 Filed 7-22-08; 8:45 am]

BILLING CODE 4310-70-P